DEPARTMENT OF THE INTERIOR

Bureau of Reclamation

Long-Term Experimental Plan for the Operation of Glen Canyon Dam and Other Associated Management Activities

AGENCY: Bureau of Reclamation, Interior.

ACTION: Notice of intent to prepare an environmental impact statement (EIS) and notice to solicit comments and hold additional public scoping meetings on the adoption of a Long-Term Experimental Plan for the operation of Glen Canyon Dam and other associated management activities under the authority of the Secretary of the Interior (Secretary).

SUMMARY: In a Federal Register notice published on November 6, 2006 (71 FR 64982-64983), and pursuant to § 102(2)(C) of the National Environmental Policy Act (NEPA) of 1969, as amended, and 40 CFR 1508.22, the Department of the Interior (Department), acting through the Bureau of Reclamation (Reclamation), provided notice that the Department intends to prepare an EIS and conduct public scoping meetings for the adoption of a Long-Term Experimental Plan for the operation of Glen Canyon Dam and other associated management activities. This Federal Register notice, prepared pursuant to 40 CFR 1508.22, provides information on additional public scoping meetings, the purpose and need for the proposed action, and additional background on the Long-Term Experimental Plan.

The purpose of the Long-Term Experimental Plan is to increase understanding of the ecosystem downstream from Glen Canyon Dam and to improve and protect important downstream resources. The NEPA process would evaluate the implications and impacts of each of the alternatives on all of the purposes and benefits of Glen Canyon Dam as well as on downstream resources. The proposed plan would implement a structured, long-term program of experimentation (including dam operations, modifications to Glen Canyon Dam intake structures, and other non-flow management actions, such as removal of non-native fish species) and monitoring in the Colorado River below Glen Canyon Dam.

The proposed Long-Term Experimental Plan is intended to ensure a continued, structured application of adaptive management in such a manner as to protect, mitigate adverse impacts to, and improve the values for which Grand Canyon National Park and Glen Canyon National Recreation Area were established, including, but not limited to natural and cultural resources and visitor use, consistent with applicable Federal law.

The Long-Term Experimental Plan will build on a decade of scientific experimentation and monitoring that has taken place as part of the Glen Canyon Dam Adaptive Management Program, and will build on the knowledge gained by experiments, operations, and management actions taken under the program. Accordingly, Reclamation intends to tier from earlier NEPA compliance documents prepared as part of the Department's Glen Canyon Adaptive Management Program efforts, see 40 CFR 1500.4(i), 1502.20, and 1508.20(b), such as the 2002 Environmental Assessment prepared on adaptive management experimental actions at Glen Canyon Dam (Proposed Experimental Releases from Glen Canyon Dam and Removal of Non-Native Fish).

Dates and Addresses: Two additional public scoping meetings will be held to solicit comments on the scope of the Long-Term Experimental Plan and the issues and alternatives that should be analyzed. The meetings will serve to expand upon the input received from the Glen Canyon Dam Adaptive Management Program meetings and the recommendations of the Adaptive Management Work Group (AMWG), a federal advisory committee. Oral and written comments will be accepted at the meetings to be held at the following locations:

• Thursday, January 4, 2007—6 p.m. to 8 p.m., Embassy Suites Phoenix Airport at 44th Street, 1515 North 44th Street, Cholla Room, Phoenix, Arizona.

• Friday, January 5, 2007—6 p.m. to 8 p.m., Hilton Salt Lake City Center, 255 South West Temple, Salon 1, Salt Lake City, Utah.

Written comments on the proposed development of the Long-Term Experimental Plan may be sent by close of business on Wednesday, February 28, 2007, to: Regional Director, Bureau of Reclamation, Upper Colorado Region, Attention: UC-402, 125 South State Street, Salt Lake City, Utah 84318-1147, faxogram at (801) 524-3858, or e-mail at GCDExpPlan@uc.usbr.gov.

FOR FURTHER INFORMATION CONTACT: Dennis Kubly, Bureau of Reclamation, telephone (801) 524-3715; faxogram (801) 524-3858; e-mail at GCDExpPlan@uc.usbr.gov. If special assistance is required regarding accommodations for attendance at either of the public meetings, please contact Jayne Kelleher at (801) 524-3680, faxogram at (801) 524-3858, or e-mail at jkelleher@uc.usbr.gov no less than 5 working days prior to the applicable meeting(s).

SUPPLEMENTARY INFORMATION: Glen Canyon Dam was authorized by the Colorado River Storage Project Act (CRSPA) of 1956 and completed by Reclamation in 1963. Below Glen Canyon Dam, the Colorado River flows for 15 miles through the Glen Canyon National Recreation Area which is managed by the National Park Service. Fifteen miles below Glen Canyon Dam, Lees Ferry, Arizona, marks the beginning of Marble Canyon and the northern boundary of Grand Canyon National Park.

The primary purpose and major function of Glen Canyon Dam is water conservation and storage. The dam is specifically managed to regulate releases of water from the Upper Colorado River Basin to the Lower Colorado River Basin to satisfy provisions of the 1922 Colorado River Compact and subsequent water delivery commitments, and thereby allow states within the Upper Basin to deplete water from the watershed upstream of Glen Canyon Dam and utilize their apportionments of Colorado River water.

In addition to the primary purpose of water delivery, another function of Glen Canyon Dam is to generate hydroelectric power. Between the dam's completion in 1963 and 1990, the dam's daily operations were primarily undertaken to maximize generation of hydroelectric power in accordance with Section 7 of the CRSPA, which requires production of the greatest practicable amount of power.

Over time, concerns arose with respect to the operation of Glen Canyon Dam, including effects of operations on species listed pursuant to the Endangered Species Act. In 1992, Congress passed and the President signed into law, the Grand Canyon Protection Act which addresses potential impacts of dam operations on downstream resources in Glen Canyon National Recreation Area and Grand Canyon National Park.

The Grand Canyon Protection Act of 1992 required the Secretary to complete an environmental impact statement evaluating alternative operating criteria, consistent with existing law, that would determine how Glen Canyon Dam would be operated to both meet the purposes for which the dam was authorized and meet the goals for protection of Glen Canyon National Recreation Area and Grand Canyon National Park. The final environmental impact statement was completed in March 1995. The Preferred Alternative (Modified Low Fluctuating Flow Alternative) was selected as the best means to operate Glen Canyon Dam in a Record of Decision (ROD) issued on October 9, 1996. In 1997 the Secretary adopted operating criteria for Glen Canyon Dam (62 FR 9447-9448) as required by Section 1804(c) of the Grand Canyon Protection Act of 1992.

Additionally, the Grand Canyon Protection Act of 1992 requires the Secretary to undertake research and monitoring to determine if revised dam operations were achieving the resource protection objectives of the final EIS and ROD. These provisions of the Grand Canyon Protection Act of 1992 were incorporated into the 1996 ROD and led to the establishment of the Glen Canyon Dam Adaptive Management Program, administered by Reclamation, and of the Grand Canyon Monitoring and Research Center within the U.S. Geological Survey (USGS).

The Adaptive Management Program includes a federal advisory committee known as the AMWG, a Technical Work Group, a monitoring and research center administered by the USGS, and independent review panels. The Technical Work Group is a subcommittee of the AMWG and provides technical advice and recommendations to the AMWG. The AMWG makes recommendations to the Secretary concerning Glen Canyon Dam operations and other management actions to protect resources downstream from Glen Canyon Dam consistent with the Grand Canyon Protection Act and other applicable provisions of Federal law.

To improve scientific understanding of the downstream ecosystem, periodic experimental releases from Glen Canyon Dam were conducted in water years 1996 through 2006. Non-flow actions were also conducted, including removal of non-native fish and translocation of the endangered Kanab ambersnail and humpback chub. Specific experimental actions included:

• 1996 test of a Beach Habitat Building Flow (BHBF) at 45,000 cubic feet per second (cfs) and translocation of endangered Kanab ambersnail.

• 2000 test of Low Steady Summer Flows at 8,000 cfs.

• 2003—2005 block of experimental actions which included:

○ Translocation of endangered humpback chub above Chute Falls.

○ Winter fluctuating fish suppression releases (5,000 to 20,000 cfs).

○ Mechanical removal of non-native fish near the confluence of the Little Colorado River to benefit the humpback chub.

○ Fall constrained releases to test the conservation of sediment (6,500 to 9,000 cfs).

○ 2004 test of a BHBF at 42,000 cfs immediately following Paria River sediment inputs.

In addition, drought-induced reductions in Lake Powell elevations caused an increase in dam release temperatures during 2003 to 2005. Considerable monitoring and research on endangered fish, sediment conservation, and other resources in the Grand Canyon were conducted in concert with these actions. Among other documents related to adaptive management experimentation, two Environmental Assessments and Findings of No Significant Impacts were prepared: Proposed Experimental Releases from Glen Canyon Dam and Removal of Non-Native Fish (2002) and Proposed Experimental Actions for Water Years 2005-2006—Colorado River, Arizona, in Glen Canyon National Recreation Area and Grand Canyon National Park (2004). These two documents can be found at the following Internet location: http://www.usbr.gov/uc/rm/gcdltep/index.html.

Proposed Action

The proposed action is to develop and adopt a Long-Term Experimental Plan that will implement a structured, long-term program of experimentation (including dam operations, modifications to Glen Canyon Dam intake structures, and other non-flow management actions, such as removal of non-native fish species) in the Colorado River below Glen Canyon Dam.

Purpose and Need for Action

The purpose of the proposed action is to increase scientific understanding of the ecosystem downstream from Glen Canyon Dam and to improve and protect important downstream resources. Specific hypotheses to be addressed include the effect of dam release temperatures; ramp rates; non-native control; and the timing, duration, and magnitude of BHBF releases. Adoption of a Long-Term Experimental Plan is needed to ensure a continued, structured application of adaptive management in such a manner as to protect, mitigate adverse impacts to, and improve the values for which Grand Canyon National Park and Glen Canyon National Recreation Area were established, including, but not limited to natural and cultural resources and visitor use, consistent with applicable Federal law. Adoption of a Long-Term Experimental Plan will assist scientists, policy makers, and resource managers to better understand resource management options, tradeoffs and consequences, and assist in the long-term operations of Glen Canyon Dam.

Scoping

The range of alternatives for the proposed action will be developed following recommendations provided by the AMWG and through information received from upcoming public scoping meetings. In addition, Reclamation will utilize information developed through prior meetings of the AMWG, Technical Work Group, and Science Planning Group as relevant information for the purposes of scoping the upcoming NEPA process and to develop the appropriate scope of analysis pursuant to 40 CFR 1508.25.

Public Disclosure

It is our practice to make comments, including names, home addresses, home telephone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Dated: November 17, 2006.
Rick L. Gold,
Regional Director—UC Region, Bureau of Reclamation.

[FR Doc. E6-20756 Filed 12-11-06; 8:45 am]

BILLING CODE 4310-MN-P